DEPARTMENT OF AGRICULTURE

Forest Service

Shasta-Trinity National Forest; California; I-5 Corridor Fuels Reduction Project

AGENCY: Forest Service, USDA.

ACTION: Notice of intent to prepare an environmental impact statement.

SUMMARY: The Shasta Unit of the Shasta-Trinity National Forest is proposing a hazardous fuels treatment project to reduce the risk of life, property and resource values from a high severity wildland fire event and improve fire suppression abilities and firefighter safety by modifying predicted fire behavior along Interstate Highway 5 (I-5) corridor north of the Pit River Bridge; south of the community of Pollock; east of Backbone Ridge peninsula; and west of the McCloud River Arm of Shasta Lake (approximately 15 miles north of Redding, Califronia). The project is located in Shasta County, California. The project area covers approximately 33,700 acres, 15,600 acres are within the wildland urban interface (WUI), 11,900 acres of the WUI are on National Forest System lands. Approximately 20,025 acres of the project area is proposed for treatment. Treatment methods include prescribe fire (i.e., broadcast, underburn, pile burn), mastication, thin and brush cut, prune, chip and pile.

DATES: Comments concerning the scope of the analysis must be received by May 25, 2011. The draft environmental impact statement is expected December 2011 and the final environmental impact statement is expected October 2012.

ADDRESSES: Send written comments to Marian Kadota, Project Manager, 1072 Casitas Pass Road, #288, Carpinteria, CA 93013. Comments may also be sent via e-mail to comments-pacificsouthwest-shasta-trinity@fs.fed.us with “I-5 Corridor” as the subject, or via facsimile to (530) 275-1512.

FOR FURTHER INFORMATION CONTACT: Marian Kadota, Project Manager, 1072 Casitas Pass Road, #288, Carpinteria, CA 93013. Phone: (805) 220-6388; e-mail address: mkadota@fs.fed.us. Individuals who use telecommunication devices for the deaf (TDD) may call (530) 242-5526.

SUPPLEMENTARY INFORMATION:

Purpose and Need for Action

The needs for the I-5 Corridor Fuels Reduction (I-5 Corridor) Project are to reduce the risk to life, property and resource values from a high severity wildland fire event uncharacteristic of the historical fire regime, and improve fire suppression abilities and firefighter safety by modifying fire predicted behavior through fuels treatment within the project area. This would be achieved by reducing the uncharacteristic buildup of fuels on the landscape on National Forest System lands. This proposal will compliment other existing and planned firewise treatments on non-national forest lands. Vegetation treatment on non-national forest lands for reducing the risk to individual homes is the responsibility of private landowners. The project is designed to respond to goals and objectives identified in the Forest Land and Resource Management Plan, the Northwest Forest Plan, and the Lakehead Area Strategic Fuel Reduction Plan.

The purposes (objectives) for the I-5 Corridor Project are to: restore fire to its natural role in the ecosystem (Forest Plan, p. 4-4); manage the chaparral ecosystem to enhance wildlife habitat and watershed condition (Forest Plan, p. 4-4); manage vegetation to a level that results in healthy forest stands, maintenance of wildlife habitat, good scenic quality and public health and safety (Forest Plan, Management Area 8 [Shasta Unit], p. 4-112); and within bald eagle nest territories, manage vegetation to enhance or retain critical habitat elements over the long-term (Forest Plan, Management Area 8 [Shasta Unit], p. 4-112).

Proposed Action

The Shasta-Trinity National Forest is proposing approximately 20,025 acres of vegetation treatment on National Forest System lands in portions of T33N, R5W; T34N, R4W; T34N, R5W; T35N, R3W; T25N, R4W; T35N, R5W; T36N, R3W, MDM. The project does not involve any commercial timber harvest. The treatment methods include: Broadcast and underburn prescribe fire (approximately 12,815 acres); mastication followed by broadcast or underburn prescribe fire (approximately 1,675 acres); thin, pile, pile burn followed by broadcast or underburn prescribe fire (approximately 1,590 acres); thin, pile, pile and burn or chip (approximately 2,820 acres); and masticate (approximately 1,125 acres).

Within all treatment areas, trees that pose a hazard to firefighter or public safety would be cut. If the tree is greater than 19 inches diameter at breast height (dbh), the downed tree would be left on site unless this conflicts with fuels management objectives or poses a safety hazard for that specific site.

No new forest system or temporary roads are proposed for construction. The majority of roads within the project area are hard surfaced (e.g. paved) and would need no additional maintenance work through the implementation of this project. The native forest system surfaced roads (i.e., unpaved) may receive reconstruction and maintenance activities.

The project is proposed for implementation over a ten year period. The proposed average annual treatment is approximately 2,000 acres. Treatments can occur any time of the year so long as Best Management Practices are implemented and the treatments comply with the design features included in the project design.

Design features (protection measures) were developed and incorporated into the proposed action to reduce potential resource impacts from this project. In addition, monitoring measures are proposed to determine the effectiveness of the project's design and associated design features.

The proposed action requires non-significant project level Forest Plan amendments. Two Forest Plan Management Prescription standards require higher levels of unburned dead and down material per acre be retained than what is proposed after treatment. The Limited Roaded Motorized Recreation management prescription requires an average of 20 tons of unburned dead and down material per acre (Forest Plan, p. 4-47); Roaded Recreation requires an average of ten tons of unburned dead and down material per acre on slopes less than 40 percent and where feasible, maintain the same amount on slopes over 40 percent (Forest Plan, pp. 4-65-66). The Forest Plan amendment would reduce the dead and down material from ten to 20 tons per acre to generally five to ten tons per acre in Limited Roaded Motorized Recreation and Roaded Recreation Management Prescription areas. This would entail approximately 1,255 acres of Limited Roaded Motorized Recreation and 8,475 acres of Roaded Recreation. Another non-significant Forest Plan amendment would include designating a Forest Service acquired parcel located in Sec 9, T34N, R4W, MDM, totaling 117 acres, as Roaded Recreation for the management prescription. The National Forest System lands surrounding this parcel are designated Roaded Recreation. This 117-acre parcel is located in one of the proposed treatment areas.

A more detailed project description can be found on the Forest Web site at http://www.fs.fed.us/nepa/project_content.php?project=30238.

Possible Alternatives

Based on the initial scoping of the project, another action alternative will be considered in the environmental analysis that only involves treatments within the wildland urban interface. The preliminary alternatives currently under consideration (besides the proposed action) are: the No Action Alternative and the Wildland Urban Interface Alternative. The final alternatives analyzed in detail will depend on the issues raised during public scoping.

Responsible Official

The Forest Service responsible official for the preparation of the EIS is the Shasta-Trinity Forest Supervisor J. Sharon Heywood, 3644 Avtech Parkway, Redding, CA 96002.

Nature of Decision To Be Made

The Forest Supervisor will decide whether to implement the proposed action, approve an alternative to the proposed action, or take no action on treating the vegetation related to this project at this time.

Preliminary Issues

Issues identified during initial scoping include potential cumulative, visual quality, water quality, special status species, and invasive plants impacts.

Scoping Process

This notice of intent reinitiates the scoping process, which guides the development of the environmental impact statement.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered; however, anonymous comments will not provide the Agency with the ability to provide the respondent with subsequent environmental documents.

Dated: April 18, 2011.
Alan D. Olson,
Acting Forest Supervisor.

[FR Doc. 2011-9871 Filed 4-21-11; 8:45 am]

BILLING CODE 3410-11-P